DEPARTMENT OF DEFENSE

Office of the Secretary

Meeting of the Defense Finance and Accounting Service Board of Advisors

AGENCY: Department of Defense, Office of the Under Secretary of Defense (Comptroller).

ACTION: Notice of meeting.

SUMMARY: This notice sets forth the schedule and summary agenda for the first meeting of the Defense Finance and Accounting Service (DFAS) Board of Advisors. The Board was chartered by the Deputy Secretary of Defense on October 4, 2000, to provide advice and recommendations to the Secretary of Defense regarding the mission of DFAS as it transforms its financial management operations, processes, and systems. The meeting will be open to the public. Notice of this meeting is required under the Federal Advisory Committee Act, (Pub. L. 92-463).

DATES: Tuesday, April 10, 2001.

ADDRESSES: Defense Finance and Accounting Service, Crystal Mall 3 (Room 438), 1931 Jefferson Davis Highway, Arlington, VA 22240.

PROPOSED SCHEDULE AND AGENDA: The Defense Finance and Accounting Service Board of Advisors will meet in open session from 1 p.m. to 4 p.m. on April 10, 2001. The meeting will include discussion on the DFAS Competitive Sourcing Program, DFAS Strategic Plan and Balanced Scorecard, and Capital Investment Strategy.

FOR FURTHER INFORMATION CONTACT: Contact Ms. Codie Smith, Resource Management, DFAS, Crystal Mall 3 (room 206), 1931 Jefferson Davis Highway, Arlington, VA 22240. Telephone (703) 607-1162. Public seating for this meeting is limited, and is available on a first-come first-served basis.

Dated: March 1, 2001.
L.M. Bynum,
Alternate OSD Federal Register, Liaison Officer, Department of Defense.

[FR Doc. 01-5664 Filed 3-7-01; 8:45 am]

BILLING CODE 5001-10-M